DEPARTMENT OF THE INTERIOR

National Park Service

[N6721; NPS-WASO-NAGPRA-NPS0041462; PPWOCRADN0-PCU00RP14.R50000]

Notice of Intended Repatriation: Yale Peabody Museum, Yale University, New Haven, CT

AGENCY: National Park Service, Interior.

ACTION: Notice.

SUMMARY: In accordance with the Native American Graves Protection and Repatriation Act (NAGPRA), the Yale Peabody Museum intends to repatriate certain cultural items that meet the definition of sacred objects and that have a cultural affiliation with the Indian Tribes in this notice.

DATES: Repatriation of the cultural items in this notice may occur on or after January 20, 2026.

ADDRESSES: Send additional, written requests for repatriation of the cultural items in this notice to Erika Edwards, Yale Peabody Museum, P.O. Box 208118, New Haven, CT 06520-8118, email erika.edwards@yale.edu.

SUPPLEMENTARY INFORMATION: This notice is published as part of the National Park Service's administrative responsibilities under NAGPRA. The determinations in this notice are the sole responsibility of the Yale Peabody Museum, and additional information on the determinations in this notice, including the results of consultation, can be found in the summary or related records. The National Park Service is not responsible for the determinations in this notice.

Abstract of Information Available

A total of five cultural items have been requested for repatriation.

One lot of sacred objects are bone (fauna) implements. In 1869, Reverend Edward Osborne (E.O.) Dunning removed collections from the farm of Adam Brakebill, adjacent to Brakebill Mound (40Kn55) in Knox County, Tennessee, near the junction of the French Broad and Holston Rivers. The collection was purchased and received by the Yale Peabody Museum in early 1870.

One lot of sacred objects are modified stone items. In early 1870, Dunning removed the objects from Island Bottom, a shoal on the Holston River, near McBee Mound (40Je10) and in Jefferson County, Tennessee. The collection was purchased and received by the Yale Peabody Museum in April 1870.

Two sacred objects are one lot of modified stone items removed from Vance's Island, and one stone bird effigy pipe removed from Howell Farm. Dunning described these locales as falling within three miles of Strawberry Plains, in Knox County, Tennessee. The collection was purchased and received by the Yale Peabody Museum in April 1870.

One sacred object is a ceramic vase. Dunning removed the vase from an unknown location within Cocke County, Tennessee and included it with the collections removed from Lick Creek Mound (40Gn2). The item was purchased and received by the Yale Peabody Museum in March 1872.

Determinations

The Yale Peabody Museum has determined that:

• The five sacred objects described in this notice are specific ceremonial objects needed by a traditional Native American religious leader for present-day adherents to practice traditional Native American religion, according to the Native American traditional knowledge of a lineal descendant, Indian Tribe, or Native Hawaiian organization.

• There is a connection between the cultural items described in this notice and the Cherokee Nation; Eastern Band of Cherokee Indians; The Muscogee (Creek) Nation; and the United Keetoowah Band of Cherokee Indians in Oklahoma.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after January 20, 2026. If competing requests for repatriation are received, the Yale Peabody Museum must determine the most appropriate requestor prior to repatriation. Requests for joint repatriation of the cultural items are considered a single request and not competing requests. The Yale Peabody Museum is responsible for sending a copy of this notice to the Indian Tribes identified in this notice and to any other consulting parties.

Authority: Native American Graves Protection and Repatriation Act, 25 U.S.C. 3004 and the implementing regulations, 43 CFR 10.9.

Dated: November 25, 2025.
Melanie O'Brien,
Manager, National NAGPRA Program.

[FR Doc. 2025-23164 Filed 12-17-25; 8:45 am]

BILLING CODE 4312-52-P